ENVIRONMENTAL PROTECTION AGENCY

[FRL-9988-19-Region 6]

Underground Injection Control Program; Hazardous Waste Injection Restrictions; Petition for Exemption Reissuance—Class I Hazardous Waste Injection; Veolia ES Technical Solutions, LLC (Veolia) Port Arthur Facility

AGENCY: Environmental Protection Agency (EPA).

ACTION: Notice of a final decision on a UIC no migration petition reissuance.

SUMMARY: Notice is hereby given that a reissuance of an exemption to the Land Disposal Restrictions, under the 1984 Hazardous and Solid Waste Amendments to the Resource Conservation and Recovery Act, has been granted to Veolia for a Class I hazardous waste injection well located at their Port Arthur, Texas facility. The company has adequately demonstrated to the satisfaction of the EPA by the petition reissuance application and supporting documentation that, to a reasonable degree of certainty, there will be no migration of hazardous constituents from the injection zone for as long as the waste remains hazardous. This final decision allows the underground injection by Veolia of the specific restricted hazardous wastes identified in this exemption reissuance request, into Class I hazardous waste injection well WDW-160 until December 31, 2041, unless the EPA moves to terminate this exemption. Additional conditions included in this final decision may be reviewed by contacting the EPA Region 6 Ground Water/UIC Section. A public notice was issued September 11, 2018, and the public comment period closed on October 29, 2018, and no comments were received. This decision constitutes final Agency action and there is no Administrative appeal.

DATES: This action is effective as of November 19, 2018.

ADDRESSES: Copies of the petition reissuance and all pertinent information relating thereto are on file at the following location:

Environmental Protection Agency, Region 6, Water Division, Safe Drinking Water Branch (6WQ-S), 1445 Ross Avenue, Dallas, Texas 75202-2733.

FOR FURTHER INFORMATION CONTACT: Philip Dellinger, Chief Ground Water/UIC Section, EPA—Region 6, telephone (214) 665-8324.

Dated: November 19, 2018.
Charles W. Maguire,
Director, Water Division.

[FR Doc. 2018-27486 Filed 12-18-18; 8:45 am]

BILLING CODE 6560-50-P